DEPARTMENT OF TRANSPORTATION

Federal Railroad Administration

49 CFR Part 214

[Docket No. FRA-2001-10426]

RIN 2130-AA48

Railroad Workplace Safety

AGENCY: Federal Railroad Administration (FRA),(DOT).

ACTION: Interim final rule.

SUMMARY: FRA is amending regulations on Railroad Workplace Safety to eliminate a provision which could present undue hazards to persons, and to eliminate possible confusion regarding the use of various terms in the rule text. In particular, FRA is prohibiting the use of body belts as permissible components of personal fall arrest systems, and is revising references to railroad bridge workers as “employees” to eliminate potential confusion in determining the group of people to which the Bridge Worker Safety Standards apply.

DATES: Effective Date: This rule becomes effective on March 18, 2002. Written comments must be received no later than March 1, 2002. Comments received after that date will be considered to the extent possible without incurring additional expense or delay. Requests for formal extension of the comment period must be made by February 14, 2002.

ADDRESSES: Comments should be sent to the Docket Clerk, Docket Management System, U.S. Department of Transportation Room PL 401, 400 Seventh Street, SW., Washington, DC 20590-0001. Comments should identify the docket number and this proceeding (Docket No. FRA-2001). If you wish to receive confirmation of receipt of your written comments, please include a self-addressed, stamped postcard.

The docket management system is located on the Plaza level of the Nassif Building at the Department of Transportation at the above address. You can review public dockets there between the hours of 9 a.m. and 5 p.m., Monday through Friday, except federal holidays. You can also review comments on-line at the DOT Docket Management System web site at http://dms.dot.gov.

You may submit comments electronically by accessing the Docket Management System web site at http://dms.dot.gov and following the instructions for submitting a document electronically.

FOR FURTHER INFORMATION CONTACT: Gordon A. Davids, Bridge Engineer, Office of Safety, FRA, 1120 Vermont Avenue NW., Washington, DC 20590, Telephone: (202) 493-6320; or Cynthia Walters, Trial Attorney, Office of Chief Counsel, FRA, 1120 Vermont Avenue NW., Washington, DC 20590, Telephone: (202) 493-6027.

SUPPLEMENTARY INFORMATION:

Background

On June 24, 1992, at 57 FR 28127, FRA issued the first of two parts of the Railroad Workplace Safety Regulations, 49 CFR part 214. That rulemaking included the original Subpart A, General, with the first definitions, and Subpart B, Bridge Worker Safety Standards. Those standards were based upon the best information available at that time on personal fall protection systems. Since that time, knowledge of the interaction between persons and fall arrest equipment has advanced, and it is now obvious that a formerly permitted use of body belts in fall arrest systems presents an undue hazard to the user.

FRA substantially amended part 214 on December 16, 1996, by adding Subpart C, Roadway Worker Protection Standards, and by adding and amending definitions to accommodate the new Subpart C. In particular, the definition of “employee” was expanded to include all railroad employees affected by Part 214 in its entirety, where before the term had applied only to railroad bridge workers. Although a definition of “railroad bridge worker” was added, the term “employee” remained in the rule text of Subpart B. Of course, Subpart B specifically stated that it applied to railroad employees “performing work on railroad bridges” (see original § 214.101(b)), so its intended scope was clear. Nevertheless, to avoid any mistaken conclusion that the use of “employee” in Subpart B was intended to somehow expand the coverage of the Subpart, we have decided to simply make use of the existing definition of “railroad bridge worker” where appropriate in Subpart B.

Public Participation

The Administrative Procedure Act (5 U.S.C. 551-559) permits an agency to dispense with notice of rulemaking when the agency “for good cause finds that notice and public procedure thereon are impracticable, unnecessary, or contrary to the public interest.” 5 U.S.C. 553(b)(B). FRA finds that notice and public procedure are, in this case, unnecessary and contrary to the public interest for the reasons set forth below.

FRA received a petition for this rulemaking from the Brotherhood of Maintenance of Way Employes (BMWE). Also, the Brotherhood of Railroad Signalmen (BRS), the Association of American Railroads (AAR), and the American Short Line and Regional Railroad Association (ASLRRA) submitted letters of support and agreement with BMWE's position on eliminating the use of body belts in fall arrest systems. These four organizations represent an overwhelming majority of both the railroad employees (BMWE and BRS) and railroad employers (AAR and ASLRRA) who would be affected by this rulemaking. FRA is not aware of any opposition to BMWE's petition regarding the use of body belts. In addition, the U.S. Occupational Safety and Health Administration now prohibits the use of safety belts in the workplaces it regulates. Further, the remaining provisions of this rulemaking involve minor technical amendments to achieve clear and consistent terminology throughout part 214. These amendments do not expand the scope of the rule, nor do they impose additional burdens on those covered by the rule. Finally, FRA finds that any further delay in issuance of this rule could expose bridge workers to unnecessary hazard from the use of body belts in fall arrest systems.

FRA believes that safety and the non-controversial nature of these changes justify the issuance of an interim final rule. FRA will consider, however, any comments received during the post-publication comment period before it issues a final rule in this proceeding.

Section-by-Section Analysis

1. Editorial Corrections to the Regulation.

With the amendment of December 16, 1996, the term “employee” continued in use in Subpart B, despite having added the definition of “railroad bridge worker” or “bridge worker” to Subpart A. Although the purpose and scope provision of Section 214.101 limits applicability of the Subpart, the rule provisions using the term “employee” are themselves potentially confusing. In addition, there are other provisions where the term “employee” is used when the employment relationship is not relevant to the intent of the rule. In those instances, the term employee has been changed to the word “person.” For example, a reference to anchorages capable of supporting 5,000 pounds “per employee” has been revised to 5,000 pounds “per person,” as the employment relationship is not truly relevant to the intent of that particular provision. The affected provisions of the rule are Section 214.7, “Definitions”; Section 214.103, “Fall protection generally”; Section 214.105, “Fall protection system standards and practices”; Section 214.107, “Working over or adjacent to water”; Section 214.111, “Personal protective equipment, generally”; Section 214.113, “Head protection”; Section 214.115, “Foot protection”; and Section 214.117, “Eye and face protection”. Changes in the definition section involve changing the word “employee” to the word “person” in five definitions. These definitions are body harness, deceleration device, free fall distance, lanyard, and personal fall arrest system. Changes in the other cited sections involve changing the word “employee” to the term “bridge worker” to avoid any possible confusion as to the appropriate group to which these standards apply. As previously noted, these revisions are for clarification only. The changes do not expand the scope of the rule to include railroad or contractor employees previously not covered, nor do they impose new or additional burdens on those covered by the rule. An additional minor correction involves correcting a reference to “Information and collection” in Section 214.302, to read “Information collection.”

2. Use of Body Belt as a Component of Personal Fall Arrest System

The section analysis of the final rule of June 24, 1992, for section 214.7, “Definitions,” included the following language related to body belts:

Many commenters urged FRA to update this definition to reflect current terminology, including the addition of a deceleration device following lanyard and lifeline. Also, most commenters stated that use of body harnesses, rather than body belts, is now preferred practice. The body belt does not absorb stress forces in a fall as well as a harness can, and therefore, may cause serious internal injury to the wearer. According to commenters, many companies no longer manufacture belts because of this risk, and the construction industry will phase out their use in the near future. However, there are limited situations, climbing poles for instance, in which belts can be utilized safely. 57 FR 28116 at 28118

In this Interim Final Rule, FRA adopts the definition used by OSHA that reflects current trade language. Although the final rule permitted the use of safety belts, use of harnesses was obviously preferred even then.

FRA has monitored the development and use of fall arrest systems in the railroad industry since this regulation was published, and has determined that body belts are seldom, if ever, used for fall protection in the railroad industry. Full body harnesses have become the universally accepted device for attaching persons to fall arrest systems. They are no more costly than are body belts, and there are no known disadvantages to their use as compared to body belts.

FRA's concern over the use of body belts for fall arrest has been strengthened over the past several years. That concern is shared by railroad management, railroad employees, contractors, and suppliers of fall protection equipment. Testing and demonstrations have shown that a person who is suspended by a body belt for only a minute or two will suffer extreme discomfort, and for any longer period, will begin to suffer disarrangement of internal organs. Add to that the 900-pound impact of an arrested fall, and severe injury is almost inevitable. The effect of impact load on a live person using a body belt has not been tested due to the lack of willing subjects for the test, but the probability of injury can still be predicted with confidence.

Owing to this shared concern, as explained above, the BMWE has petitioned FRA to prohibit the use of body belts for this purpose, and FRA agrees. The BRS has written in support of the BMWE petition, together with the ASLRRA and the AAR.

3. Use of Ring Buoys for Protection of Persons Working Over Water

BMWE also petitioned FRA to amend the regulation to provide either 110 feet of line on life buoys, or to prescribe a spacing closer than 200 feet between them. The current Section 214.107 states:

§ 214.107 Working over or adjacent to water.

(a) Employees working over or adjacent to water with a depth of four feet or more, or where the danger of drowning exists, shall be provided and shall use life vests or buoyant work vests in compliance with U.S. Coast Guard requirements in 46 CFR sections 160.047, 160.052, and 160.053. Life preservers in compliance with U.S. Coast Guard requirements in 46 CFR 160.055 shall also be within ready access. This section shall not apply to employees using personal fall arrest systems or safety nets that comply with this subpart.

* * * * *

(d) Where life vests are required by paragraph (a) of this section, ring buoys with at least 90 feet of line shall be provided and readily available for emergency rescue operations. Distance between ring buoys shall not exceed 200 feet.

The apparent discrepancy which BMWE wishes to see addressed is the difference between twice the length of 90 feet of line, or 180 feet, and the 200-foot spacing of the ring buoys. There would appear to be a 20-foot gap in coverage in the middle of the space between two ring buoys, where the lines would not reach. This concern also prevailed among FRA staff, BRS, and several railroad officials who were involved in the discussions on this matter over the past several years.

Upon further investigation, however, it was found that in actual practice, free ends of the buoy lines are seldom attached to fixed objects on the bridge. In practice, the line is normally coiled with the buoy, so that the entire buoy and line can be lifted from their hanger and carried to the location from which the buoy is to be thrown to a person in the water. The person throwing the buoy either secures the free end of the buoy line at that point, or holds it in the free hand. Most people are not capable of throwing a buoy 90 feet, so there is little chance of the buoy line being jerked from the user's hand. The spacing of the ring buoys, therefore, is not related to their length. The maximum of 200 feet between the buoys is simply intended to make sure that people can get to them quickly and get them where they are needed.

Leaving the free end of the buoy line unattached while the buoy is in its holder is preferred because the buoy might be needed several hundred feet away, as would be the case if several persons were in the water. That being the case, several buoys could be quickly obtained and thrown by several persons, without having to first untie the buoy lines. FRA has therefore decided not to amend § 214.107 concerning the positioning and use of ring buoys.

Regulatory Impact

E.O. 12866 and DOT Regulatory Policies and Procedures

This correction and amendment of the final rule has been evaluated in accordance with existing policies and procedures and is not considered significant under Executive Order 12866 or under DOT policies and procedures. The minor technical changes made in this amendment will not increase the costs or alter the benefits associated with this regulation to any measurable degree.

Regulatory Flexibility Act

The Regulatory Flexibility Act of 1980 (5 U.S.C. 601 et seq.) requires a review of rules to assess their impact on small entities. This amendment to the final rule clarifies existing requirements. The changes will have no new direct or indirect economic impact on small units of government, businesses, or other organizations. Therefore, it is certified that this rule will not have a significant economic impact on a substantial number of small entities under the provisions of the Regulatory Flexibility Act.

Paperwork Reduction Act

There are no paperwork requirements associated with this amendment of the final rule.

Environmental Impact

FRA has evaluated this amendment in accordance with its procedures for ensuring full consideration of the environmental impact of FRA actions, as required by the National Environmental Policy Act (42 U.S.C. 4321 et seq.), other environmental statutes, Executive Orders, and DOT Order 5610.1c. The amendment meets the criteria establishing this as a nonmajor action for environmental purposes.

Federalism Implications

This amendment will not have a substantial effect on the states, on the relationship between the national government and the states, or on the distribution of power and responsibilities among the various levels of government. Thus, in accordance with Executive Order 13132, preparation of a Federalism Assessment is not warranted.

List of Subjects in 49 CFR Part 214

Bridges, Fall arrest equipment, Incorporation by reference, Occupational safety and health, Personal protective equipment, Railroad employees, Railroad safety.

The Interim Final Rule

In consideration of the foregoing, Part 214, Title 49, Code of Federal Regulations is amended as follows:

PART 214—[AMENDED]

1. The authority for part 214 continues to read as follows:

Authority: 49 U.S.C. 20103, 20107; and 49 CFR 1.49.

2. By revising the following definitions in § 214.7 to read as follows:

§ 214.7 Definitions.

* * * * *

Body harness means a device with straps that is secured about the person in a manner so as to distribute the fall arrest forces over (at least) the thighs, shoulders, pelvis, waist, and chest and that can be attached to a lanyard, lifeline, or deceleration device.

* * * * *

Deceleration device means any mechanism, including, but not limited to, rope grabs, ripstitch lanyards, specially woven lanyards, tearing or deforming lanyards, and automatic self-retracting lifelines/lanyards that serve to dissipate a substantial amount of energy during a fall arrest, or otherwise limit the energy on a person during fall arrest.

* * * * *

Free fall distance means the vertical displacement of the fall arrest attachment point on a person's body harness between onset of the fall and the point at which the system begins to apply force to arrest the fall. This distance excludes deceleration distance and lifeline and lanyard elongation, but includes any deceleration device slide distance or self-retracting lifeline/lanyard extension before they operate and fall arrest forces occur.

* * * * *

Lanyard means a flexible line of rope, wire rope, or strap that is used to secure a body harness to a deceleration device, lifeline, or anchorage.

* * * * *

Personal fall arrest system means a system used to arrest the fall of a person from a working level. It consists of an anchorage, connectors, body harness, lanyard, deceleration device, lifeline, or combination of these.

* * * * *

3. By revising § 214.103 to read as follows:

§ 214.103 Fall protection, generally.

(a) Except as provided in paragraphs (b) through (d) of this section, when bridge workers work twelve feet or more above the ground or water surface, they shall be provided and shall use a personal fall arrest system or safety net system. All fall protection systems required by this section shall conform to the standards set forth in § 214.105 of this subpart.

(b)(1) This section shall not apply if the installation of the fall arrest system poses a greater risk than the work to be performed. In any action brought by FRA to enforce the fall protection requirements, the railroad or railroad contractor shall have the burden of proving that the installation of such device poses greater exposure to risk than performance of the work itself.

(2) This section shall not apply to bridge workers engaged in inspection of railroad bridges conducted in full compliance with the following conditions:

(i) The railroad or railroad contractor has a written program in place that requires training in, adherence to, and use of safe procedures associated with climbing techniques and procedures to be used;

(ii) The bridge worker to whom this exception applies has been trained and qualified according to that program to perform bridge inspections, has been previously and voluntarily designated to perform inspections under the provision of that program, and has accepted the designation;

(iii) The bridge worker to whom this exception applies is familiar with the appropriate climbing techniques associated with all bridge structures the bridge worker is responsible for inspecting;

(iv) The bridge worker to whom this exception applies is engaged solely in moving on or about the bridge or observing, measuring and recording the dimensions and condition of the bridge and its components; and

(v) The bridge worker to whom this section applies is provided all equipment necessary to meet the needs of safety, including any specialized alternative systems required.

(c) This section shall not apply where bridge workers are working on a railroad bridge equipped with walkways and railings of sufficient height, width, and strength to prevent a fall, so long as bridge workers do not work beyond the railings, over the side of the bridge, on ladders or other elevation devices, or where gaps or holes exist through which a body could fall. Where used in place of fall protection as provided for in § 214.105, this paragraph (c) is satisfied by:

(1) Walkways and railings meeting standards set forth in the American Railway Engineering Association's Manual for Railway Engineering; and

(2) Roadways attached to railroad bridges, provided that bridge workers on the roadway deck work or move at a distance six feet or more from the edge of the roadway deck, or from an opening through which a person could fall.

(d) This section shall not apply where bridge workers are performing repairs or inspections of a minor nature that are completed by working exclusively between the outside rails, including but not limited to, routine welding, spiking, anchoring, spot surfacing, and joint bolt replacement.

4. By revising § 214.105 to read as follows:

§ 214.105 Fall protection systems standards and practices.

(a) General requirements. All fall protection systems required by this subpart shall conform to the following:

(1) Fall protection systems shall be used only for personal fall protection.

(2) Any fall protection system subjected to impact loading shall be immediately and permanently removed from service unless fully inspected and determined by a competent person to be undamaged and suitable for reuse.

(3) All fall protection system components shall be protected from abrasions, corrosion, or any other form of deterioration.

(4) All fall protection system components shall be inspected prior to each use for wear, damage, corrosion, mildew, and other deterioration. Defective components shall be permanently removed from service.

(5) Prior to use and after any component or system is changed, bridge workers shall be trained in the application limits of the equipment, proper hook-up, anchoring and tie-off techniques, methods of use, and proper methods of equipment inspection and storage.

(6) The railroad or railroad contractor shall provide for prompt rescue of bridge workers in the event of a fall.

(7) Connectors shall have a corrosion-resistant finish, and all surfaces and edges shall be smooth to prevent damage to interfacing parts of the system.

(8) Connectors shall be drop forged, pressed or formed steel, or made of equivalent-strength materials.

(9) Anchorages, including single- and double-head anchors, shall be capable of supporting at least 5,000 pounds per bridge worker attached, or shall be designed, installed, and used under supervision of a qualified person as part of a complete personal fall protection system that maintains a safety factor of at least two.

(b) Personal fall arrest systems. All components of a personal fall arrest system shall conform to the following standards:

(1) Lanyards and vertical lifelines that tie off one bridge worker shall have a minimum breaking strength of 5,000 pounds.

(2) Self-retracting lifelines and lanyards that automatically limit free fall distance to two feet or less shall have components capable of sustaining a minimum static tensile load of 3,000 pounds applied to the device with the lifeline or lanyard in the fully extended position.

(3) Self-retracting lifelines and lanyards that do not limit free fall distance to two feet or less, ripstitch, and tearing and deformed lanyards shall be capable of withstanding 5,000 pounds applied to the device with the lifeline or lanyard in the fully extended position.

(4) Horizontal lifelines shall be designed, installed, and used under the supervision of a competent person, as part of a complete personal fall arrest system that maintains a safety factor of at least two.

(5) Lifelines shall not be made of natural fiber rope.

(6) Body belts shall not be used as components of personal fall arrest systems.

(7) The personal fall arrest system shall limit the maximum arresting force on a bridge worker to 1,800 pounds when used with a body harness.

(8) The personal fall arrest system shall bring a bridge worker to a complete stop and limit maximum deceleration distance a bridge worker travels to 3.5 feet.

(9) The personal fall arrest system shall have sufficient strength to withstand twice the potential impact energy of a bridge worker free falling a distance of six feet, or the free fall distance permitted by the system, whichever is less.

(10) The personal fall arrest system shall be arranged so that a bridge worker cannot free fall more than six feet and cannot contact the ground or any lower horizontal surface of the bridge.

(11) Personal fall arrest systems shall be worn with the attachment point of the body harness located in the center of the wearer's back near shoulder level, or above the wearer's head.

(12) When vertical lifelines are used, each bridge worker shall be provided with a separate lifeline.

(13) Devices used to connect to a horizontal lifeline that may become a vertical lifeline shall be capable of locking in either direction.

(14) Dee-rings and snap-hooks shall be capable of sustaining a minimum tensile load of 3,699 pounds without cracking, breaking, or taking permanent deformation.

(15) Dee-rings and snap-hooks shall be capable of sustaining a minimum tensile load of 5,000 pounds.

(16) Snap-hooks shall not be connected to each other.

(17) Snap-hooks shall be dimensionally compatible with the member to which they are connected to prevent unintentional disengagement, or shall be a locking snap-hook designed to prevent unintentional disengagement.

(18) Unless of a locking type, snap-hooks shall not be engaged:

(i) Directly, next to a webbing, rope, or wire rope;

(ii) To each other;

(iii) To a dee-ring to which another snap-hook or other connector is attached;

(iv) To a horizontal lifeline; or

(v) To any object that is incompatibly shaped or dimensioned in relation to the snap-hook so that unintentional disengagement could occur.

(c) Safety net systems. Use of safety net systems shall conform to the following standards and practices:

(1) Safety nets shall be installed as close as practicable under the walking/working surface on which bridge workers are working, but shall not be installed more than 30 feet below such surface.

(2) If the distance from the working surface to the net exceeds 30 feet, bridge workers shall be protected by personal fall arrest systems.

(3) The safety net shall be installed such that any fall from the working surface to the net is unobstructed.

(4) Except as provided in this section, safety nets and net installations shall be drop-tested at the jobsite after initial installation and before being used as a fall protection system, whenever relocated, after major repair, and at six-month intervals if left in one place. The drop-test shall consist of a 400-pound bag of sand 30 inches, plus or minus two inches, in diameter dropped into the net from the highest (but not less than 3½ feet) working surface on which bridge workers are to be protected.

(i) When the railroad or railroad contractor demonstrates that a drop-test is not feasible and, as a result, the test is not performed, the railroad or railroad contractor, or designated competent person, shall certify that the net and its installation are in compliance with the provisions of this section by preparing a certification record prior to use of the net.

(ii) The certification shall include an identification of the net, the date it was determined that the net was in compliance with this section, and the signature of the person making this determination. Such person's signature shall certify that the net and its installation are in compliance with this section. The most recent certification for each net installation shall be available at the jobsite where the subject net is located.

(5) Safety nets and their installations shall be capable of absorbing an impact force equal to that produced by the drop test specified in this section.

(6) The safety net shall be installed such that there is no contact with surfaces or structures below the net when subjected to an impact force equal to the drop test specified in this section.

(7) Safety nets shall extend outward from the outermost projection of the work surface as follows:

(i) When the vertical distance from the working level to the horizontal plane of the net is 5 feet or less, the minimum required horizontal distance of the outer edge of the net beyond the edge of the working surface is 8 feet.

(ii) When the vertical distance from the working level to the horizontal plane of the net is 5 feet, but less than 10 feet, the minimum required horizontal distance of the outer edge of the net beyond the edge of the working surface is 10 feet.

(iii) When the vertical distance from the working level to the horizontal plane of the net is more than 10 feet, the minimum required horizontal distance of the outer edge of the net beyond the edge of the working surface is 13 feet.

(8) Defective nets shall not be used. Safety nets shall be inspected at least once a week for mildew, wear, damage, and other deterioration. Defective components shall be removed permanently from service.

(9) Safety nets shall be inspected after any occurrence that could affect the integrity of the safety net system.

(10) Tools, scraps, or other materials that have fallen into the safety net shall be removed as soon as possible, and at least before the next work shift.

(11) Each safety net shall have a border rope for webbing with a minimum breaking strength of 5,000 pounds.

(12) The maximum size of each safety net mesh opening shall not exceed 36 square inches and shall not be longer than 6 inches on any side measured center-to-center of mesh ropes or webbing. All mesh crossing shall be secured to prevent enlargement of the mesh opening.

(13) Connections between safety net panels shall be as strong as integral net components and shall be spaced not more than 6 inches apart.

5. By revising § 214.107 paragraphs (a) and (b) to read as follows:

§ 214.107 Working over or adjacent to water.

(a) Bridge workers working over or adjacent to water with a depth of four feet or more, or where the danger of drowning exists, shall be provided and shall use life vests or buoyant work vests in compliance with U.S. Coast Guard requirements in 46 CFR 160.047, 160.052, and 160.053. Life preservers in compliance with U.S. Coast Guard requirements in 46 CFR 160.055 shall also be within ready access. This section shall not apply to bridge workers using personal fall arrest systems or safety nets that comply with this subpart.

(b) Life vests or buoyant work vests shall not be required when bridge workers are conducting inspections that involve climbing structures above or below the bridge deck.

* * * * *

6. By revising §§ 214.111, 214.113, 214.115 and 214.117 to read as follows:

§ 214.111 Personal protective equipment, generally.

With the exception of foot protection, the railroad or railroad contractor shall provide and the bridge worker shall use appropriate personal protective equipment described in this subpart in all operations where there is exposure to hazardous conditions, or where this subpart indicates the need for using such equipment to reduce the hazards to railroad bridge workers. The railroad or railroad contractor shall require the use of foot protection when the potential for foot injury exists.

§ 214.113 Head protection.

(a) Railroad bridge workers working in areas where there is a possible danger of head injury from impact, or from falling or flying objects, or from electrical shock and burns, shall be provided and shall wear protective helmets.

(b) Helmets for the protection of railroad bridge workers against impact and penetration of falling and flying objects, or from high voltage electrical shock and burns shall conform to the national consensus standards for industrial head protection (American National Standards Institute, Z89.1-1986, Protective Headwear for Industrial Workers). This incorporation by reference was approved by the Director of the Federal Register in accordance with 5 U.S.C. 552(a) and 1 CFR part 51. Copies may be obtained from the American National Standards Institute, 25 West 43rd Street, New York, NY 10036. Copies may be inspected at the Federal Railroad Administration, Docket Clerk, 1120 Vermont Avenue NW., Washington, DC, or at the Office of the Federal Register, 800 North Capitol Street, NW., suite 700, Washington, DC.

§ 214.115 Foot protection.

(a) The railroad or railroad contractor shall require railroad bridge workers to wear foot protection equipment when potential foot injury may result from impact, falling or flying objects, electrical shock or burns, or other hazardous condition.

(b) Safety-toe footwear for railroad bridge workers shall conform to the national consensus standards for safety-toe footwear (American National Standards Institute, American National Standard Z41-1991, Standard for Personal Protection-Protective Footwear). This incorporation by reference was approved by the Director of the Federal Register in accordance with 5 U.S.C. 552(a) and 1 CFR part 51. Copies may be obtained from American National Standards Institute, 25 West 43rd Street, New York, NY 10036. Copies may be inspected at the Federal Railroad Administration, Docket Clerk, 1120 Vermont Avenue, Washington, DC, or at the Office of the Federal Register, 800 North Capitol Street, NW., suite 700, Washington DC.

§ 214.117 Eye and face protection.

(a) Railroad Bridge workers shall wear eye and face protection equipment when potential eye or face injury may result from physical, chemical, or radiant agents.

(b) Eye and face protection equipment required by this section shall conform to the national consensus standards for occupational and educational eye and face protection (American National Standards Institute, Z87.1-1989, Practice for Occupational and Educational Eye and Face Protection). This incorporation by reference was approved by the Director of the Federal Register in accordance with 5 U.S.C. 552(a) and 1 CFR part 51. Copies may be obtained from the American National Standards Institute, 25 West 43rd Street, New York, NY 10036. Copies may be inspected at the Federal Railroad Administration, Docket Clerk, 1120 Vermont Avenue, Washington, DC, or at the Office of the Federal Register, 800 North Capitol Street, NW., suite 700, Washington, DC.

(c) Face and eye protection equipment required by this section shall be kept clean and in good repair. Use of equipment with structural or optical defects is prohibited.

(d) Railroad bridge workers whose vision requires the use of corrective lenses, when required by this section to wear eye protection, shall be protected by goggles or spectacles of one of the following types:

(i) Spectacles whose protective lenses provide optical correction the, frame of which includes shielding against objects reaching the wearer's eyes around the lenses;

(ii) Goggles that can be worn over corrective lenses without disturbing the adjustment of the lenses; or

(iii) Goggles that incorporate corrective lenses mounted behind the protective lenses.

7. By correcting the heading of § 214.302 to read as follows:

§ 214.302 Information collection requirements.

Issued in Washington, DC on January 7, 2002.
Allan Rutter,
Federal Railroad Administrator.

[FR Doc. 02-723 Filed 1-14-02; 8:45 am]

BILLING CODE 4910-06-P